DEPARTMENT OF JUSTICE

Notice of Lodging of Consent Decree Under the Clean Water Act

Notice is hereby given that on September 12, 2008, a proposed consent decree (the “Decree”) in United States and State of Oregon v. Truax Oil, Inc., Civil Action No. 3:08-cv-01063-KI, was lodged with the United States District Court for the District of Oregon.

In this action the United States and State of Oregon sought civil penalties for Defendant Truax Oil's spill of approximately 11,000 gallons of oil from a tanker truck owned and operated by Truax. Truax owns and operates a liquid petroleum transport company based in Corvallis, Oregon. On March 11, 2006, a tanker truck owned and operated by Truax carrying approximately 9,000 gallons of gasoline and 2,000 gallons of diesel fuel overturned while traveling on U.S. Highway 5, at Milepost 118, near Roseburg, Oregon. Gasoline and diesel that did not ignite in the ensuing fire spilled into a soil embankment beside the highway and migrated to an unnamed tributary to Roberts Creek, a tributary of the South Fork of the Umpqua River. Truax's discharge of gasoline and diesel to the Umpqua River and its tributaries violated the Clean Water Act and Oregon law. Under the consent decree, Truax will pay the United States and the State of Oregon civil penalties of $117,500 and $20,000, respectively.

The Department of Justice will receive for a period of thirty (30) days from the date of this publication comments relating to the consent decree. Comments should be addressed to the Assistant Attorney General, Environment and Natural Resources Division, and either e-mailed to pubcomment-ees.enrd@usdoj.gov or mailed to P.O. Box 7611, U.S. Department of Justice, Washington, DC 20044-7611, and should refer to United States and State of Oregon v. Truax Oil, Inc., Civil Action No. 3:08-cv-01063-KI, D.J. Ref. 90-5-1-1-09015.

The consent decree may be examined at the Office of the United States Attorney, Mark O. Hatfield U.S. Courthouse, 1000 S.W. Third Avenue, Suite 600, Portland, OR 97204, and at U.S. EPA Region 10, 1200 Sixth Avenue, Seattle, WA 98101. During the public comment period, the consent decree may also be examined on the following Department of Justice Web site: http://www.usdoj.gov/enrd/Consent_Decrees.html. A copy of the consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. When requesting a copy from the Consent Decree Library, please enclose a check in the amount of $4.00 (25 cents per page reproduction cost) payable to the U.S. Treasury or, if by e-mail or fax, forward a check in that amount to the Consent Decree Library at the stated address.

Robert E. Maher, Jr.,
Assistant Chief, Environmental Enforcement Section Environment and Natural Resources Division.

[FR Doc. E8-23092 Filed 10-1-08; 8:45 am]

BILLING CODE 4410-15-P